DEPARTMENT OF DEFENSE

Office of the Secretary

[Transmittal No. 25-63]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-63 and Policy Justification.

Dated: February 5, 2026.
Stephanie J. Bost,
Alternate OSD Federal Register Liaison Officer, Department of Defense.

BILLING CODE 6001-FR-P

BILLING CODE 6001-FR-C

Transmittal No. 25-63

Notice of Proposed Issuance of Letter of Offer Pursuant to Section 36(b)(1) of the Arms Export Control Act, as amended

(i) Prospective Purchaser: Government of Lebanon

(ii) Total Estimated Value:

Major Defense Equipment * | $ 0 million
Other | $90.5 million
TOTAL | $90.5 million

Funding Source: Foreign Military Financing

(iii) Description and Quantity or Quantities of Articles or Services under Consideration for Purchase:

Major Defense Equipment (MDE):

None

Non-Major Defense Equipment:

5-ton M1085A2 Medium Tactical Vehicles (MTVs) without winch; 2.5-ton M1078A2 MTVs without winch; spare and repair parts; publications and technical documentation; personnel training and training equipment; technical, and logistics support services; and other related elements of logistics and program support.

(iv) Military Department: Army (LE-B-WDA)

(v) Prior Related Cases, if any: LE-B-WGA

(vi) Sales Commission, Fee, etc., Paid, Offered, or Agreed to be Paid: None known at this time

(vii) Sensitivity of Technology Contained in the Defense Article or Defense Services Proposed to be Sold: None

(viii) Date Report Delivered to Congress: December 5, 2025

* as defined in Section 47(6) of the Arms Export Control Act.

POLICY JUSTIFICATION

Lebanon—M1085A2 and M1078A2 Medium Tactical Vehicles

The Government of Lebanon has requested to buy 5-ton M1085A2 Medium Tactical Vehicles (MTVs) without winch; 2.5-ton M1078A2 MTVs without winch; spare and repair parts; publications and technical documentation; personnel training and training equipment; technical, and logistics support services; and other related elements of logistics and program support. The estimated total cost is $90.5 million.

This proposed sale will support the foreign policy and national security of the United States (U.S.) by improving the security of a partner country that continues to be an important force for political stability and economic progress in the Middle East.

The proposed sale will improve Lebanon's capability to meet current and future threats by enabling Lebanese Armed Forces to rapidly engage and defeat perimeter security threats and readily employ counter and anti-terrorism measures. A highly mobile and medium tactical vehicle capability will enable additional military-to-military tactics and operational training between the U.S. and Lebanon. Lebanon will have no difficulty absorbing these articles and services into its armed forces.

The proposed sale of this equipment and support will not alter the basic military balance in the region.

The principal contractor will be Oshkosh Defense, located in Oshkosh, WI. At this time, the U.S. Government is not aware of any offset agreement proposed in connection with this potential sale. Any offset agreement will be defined in negotiations between the purchaser and the contractor.

Implementation of this proposed sale will not require the assignment of any additional U.S. Government or contractor representatives to Lebanon.

There will be no adverse impact on U.S. defense readiness as a result of this proposed sale.

[FR Doc. 2026-02533 Filed 2-6-26; 8:45 am]

BILLING CODE 6001-FR-P